SMALL BUSINESS ADMINISTRATION

[Declaration of Disaster #3341]

State of Minnesota; Amendment #6

In accordance with a notice received from the Federal Emergency Management Agency, dated June 28, 2001, the above-numbered Declaration is hereby amended to extend the deadline for filing applications for physical damages as a result of this disaster to July 31, 2001.

All other information remains the same, i.e., the deadline for filing applications for physical damage is July 31, 2001 and for economic injury the deadline is February 15, 2002.

(Catalog of Federal Domestic Assistance Program Nos. 59002 and 59008)
Dated: June 28, 2001.
Herbert L. Mitchell,
Associate Administrator for Disaster Assistance.

[FR Doc. 01-16860 Filed 7-5-01; 8:45 am]

BILLING CODE 8025-01-P